DEPARTMENT OF ENERGY

Federal Energy Regulatory Commission

Notice of Application for Surrender of License and Soliciting Comments, Motions To Intervene, and Protests

February 21, 2003.

Take notice that the following hydroelectric application has been filed with the Commission and is available for public inspection:

a. Application Type: Surrender of License.

b. Project No.: P-696-013.

c. Date Filed: December 31, 2002.

d. Applicant: PacifiCorp.

e. Name of Project: American Fork Hydroelectric Project.

f. Location: On American Fork Creek, near the City of American Fork, Utah County, Utah, about 3 miles east of Highland, Utah. The project affects about 28.8 acres of federal lands within the Uinta National Forest. Also, approximately 2,000 feet of flowline passes through the Timpanogos Cave National Monument, administered by the U.S. Department of the Interior, National Park Service.

g. Filed Pursuant to: Federal Power Act, 16 U.S.C. 791(a)-825(r).

h. Applicant Contact: Monte Garrett, Licensing Manager, PacifiCorp 825 NE Multnomah, suite 1500, Portland, Oregon, 97232 (503) 813-6629.

i. FERC Contact: Kenneth Hogan (202)502-8434, e-mail at kenneth.hogan@ferc.gov.

j. Cooperating agencies: We are asking federal, state, local, and tribal agencies with jurisdiction and/or special expertise with respect to environmental issues to cooperate with us in the preparation of the environmental document. Agencies who would like to request cooperating status should follow the instructions for filing documents described in item k below.

k. Deadline for filing comments, motions to intervene, protests, and requests for cooperating agency status: 30 days from the issuance date of this notice.

All documents (original and eight copies) should be filed with: Magalie R. Salas, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. PacifiCorp filed an application to surrender its minor license for the American Fork Hydroelectric Project. PacifiCorp proposes to continue operation of the project through August 2006, at which time they will begin the project's decommissioning, with completion by December 31, 2007. PacifiCorp proposes to do the following: (1) Demolish, remove, and dispose of the existing concrete diversion dam, Tainter gates, hoists and steel structures, trash racks, and control building; (2) repair the powerhouse structure and retaining wall for the protection of the powerhouse for conveyance to the U.S. Government; (3) remove the spillway, transformer pad, tender's house, garage; (4) reconstruct the stream channel as necessary; (5) remove exposed sections of the penstock and support structures; (6) re-vegetate and/or re-habilitate disturbed areas.

m. A copy of the application is on file with the Commission and is available for public inspection. This filing may also be viewed on the web at http://www.ferc.gov using the “FERRIS” link—select “Docket #” and follow the instructions. For assistance, please contact FERC Online Support at FERCOnlineSupport@ferc.gov or toll-free at (866)208-3676, or for TTY, contact (202)502-8659. A copy is also available for inspection and reproduction at the address in item h above. To facilitate the subject surrender, the Commission will incorporate into the record for this proceeding, all documents filed with or issued by the Commission as part of the earlier relicensing proceeding (P-696-010).

n. With this notice, we are initiating consultation with the State Historic Preservation Officer as required by § 106, National Historic Preservation Act, and the regulations of the Advisory Council on Historic Preservation, 36 CFR 800.4.

o. Individuals desiring to be included on the Commission's mailing list should so indicate by writing to the Secretary of the Commission.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Any filings must bear in all capital letters the title “COMMENTS,” “PROTEST,” or “MOTION TO INTERVENE,” as applicable, and the Project Number of the particular application to which the filing refers. A copy of any motion to intervene must also be served upon each representative of the Applicant specified in the particular application.

Federal, state, and local agencies are invited to file comments on the described application. A copy of the application may be obtained by agencies directly from the applicant. If an agency does not file comments within the time specified for filing comments, it will be presumed to have no comments. One copy of an agency's comments must also be sent to the Applicant's representatives.

Magalie R. Salas,
Secretary.

[FR Doc. 03-4712 Filed 2-26-03; 8:45 am]

BILLING CODE 6717-01-P